DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 23, 2009.

Interested persons are invited to submit written comments regarding the subject matter of the investigations to the Director, Division of Trade Adjustment Assistance, at the address shown below, not later than February 23, 2009.

The petitions filed in this case are available for inspection at the Office of the Director, Division of Trade Adjustment Assistance, Employment and Training Administration, U.S. Department of Labor, Room N-5428, 200 Constitution Avenue, NW., Washington, DC 20210.

Signed at Washington, DC, this 6th day of February 2009.
Linda G. Poole,
Certifying Officer, Division of Trade Adjustment Assistance.

Appendix
[TAA Petitions Instituted Between 1/21/09 and 1/23/09]
TA-W | Subject firm (petitioners) | Location | Date of institution | Date of petition
64921 | Hickory Chair/HDM Furniture(Comp) | Hickory, NC | 01/21/09 | 01/16/09
64922 | ISM Fastening Systems(USW) | Butler, PA | 01/21/09 | 01/16/09
64923 | International Legwear Corp.(Comp) | Hickory, NC | 01/21/09 | 01/16/09
64924 | Freeport McMoRan(Wkrs) | Hurley, NM | 01/21/09 | 01/15/09
64925 | Dana Heavy Vechicles Systme Group(Wkrs) | Glasgow, KY | 01/22/09 | 01/16/09
64926 | Ray Lewis & Son(Wkrs) | Marysville, OH | 01/22/09 | 01/13/09
64927 | Anheuser-Busch Inc(Wkrs) | St. Louis, MO | 01/22/09 | 01/16/09
64928 | Advanced Micro Devices(Wkrs) | Sunnyvale, CA | 01/22/09 | 01/16/09
64929 | Pfizer(Wkrs) | Terre Haute, IN | 01/22/09 | 01/12/09
64930 | Kaiser Aluminum(Wkrs) | Greenwood, SC | 01/22/09 | 01/15/09
64931 | INVISTA S.a.r.l.(Comp) | Seaford, DE | 01/22/09 | 01/13/09
64932 | Pratt & Whitney(State) | East Hartford, CT | 01/22/09 | 01/16/09
64933 | Wolf Appliance(Union) | Fitchburg, WI | 01/22/09 | 01/19/09
64934 | Borg Warner Morse TEC(IBT) | Ithaca, NY | 01/22/09 | 01/20/09
64935 | Baker Hosiery(State) | Fort Payne, AL | 01/22/09 | 01/20/09
64936 | Casco Products(Comp) | Marks, MS | 01/22/09 | 01/20/09
64937 | Kellwood Company(Comp) | Rutherford, TN | 01/22/09 | 01/16/09
64938 | Sonoco Products Company(Wkrs) | Rockton, IL | 01/22/09 | 01/14/09
64939 | Farmtrac North America, LLC(Comp) | Tarboro, NC | 01/22/09 | 01/17/09
64940 | Long Equipment Company(Comp) | Tarboro, ND | 01/22/09 | 01/17/09
64941 | Southworth, Inc(State) | Manilla, AR | 01/22/09 | 01/20/09
64942 | Bestop, Inc.(Comp) | Broomfield, CO | 01/22/09 | 01/20/09
64943 | Versa-Matic Pump Company(Comp) | Export, PA | 01/22/09 | 01/16/09
64944 | Invista(IBDW) | Waynesboro, VA | 01/22/09 | 01/20/09
64945 | InterMetro Industries(Comp) | Wilkes-Barre, PA | 01/22/09 | 01/14/09
64946 | AbitibiBowater, Inc.(Comp) | Calhoun, TN | 01/22/09 | 01/02/09
64947 | Philip Morris(BCTGM) | Concord, NC | 01/22/09 | 01/15/09
64948 | Raxon Fabrics Corporation(UNITE) | Allentown, PA | 01/22/09 | 01/21/09
64949 | Littlelfuse, Inc.(Comp) | Des Plaines, IL | 01/22/09 | 01/16/09
64950 | Indepak, Inc.(Comp) | Portland, OR | 01/22/09 | 01/21/09
64951 | Daimler Trucks North America/Portland Truck Plant(Comp) | Portland, OR | 01/22/09 | 01/21/09
64952 | Heritage Footwear, Inc.(Comp) | Fort Payne, AL | 01/22/09 | 01/14/09
64953 | Bloomsburg Mills, Inc.(Comp) | Bloomsburg, PA | 01/22/09 | 01/13/09
64954 | ZF Boge Elastametall, LLC(State) | Paris, IL | 01/22/09 | 01/21/09
64955 | Vishay Dale(State) | Columbus, NE | 01/22/09 | 01/21/09
64956 | Citigroup Global Markets(Wkrs) | New York, NY | 01/22/09 | 01/20/09
64957 | Kyocera Wireless Corporation(Comp) | San Diego, CA | 01/22/09 | 01/20/09
64958 | Molex, Inc.(State) | Lincoln, NE | 01/22/09 | 01/21/09
64959 | Emerson Network Power(Comp) | Marlborough, MA | 01/22/09 | 01/19/09
64960 | Pax Machine Works, Inc.(Comp) | Celina, OH | 01/22/09 | 01/21/09
64961 | CNI-Duluth, LLC(State) | Madison Heights, MI | 01/22/09 | 01/15/09
64962 | FTCA, Inc.(USW) | Somerset, PA | 01/22/09 | 01/21/09
64963 | DME Company(Wkrs) | Youngwood, PA | 01/22/09 | 01/21/09
64964 | Kennametal, Inc.(Wkrs) | Farmington Hills, MI | 01/22/09 | 01/21/09
64965 | Honeywell International, Inc.(State) | Plymouth, MI | 01/22/09 | 01/12/09
64966 | Camera Dynamics, Inc.(State) | Costa Mesa, CA | 01/22/09 | 01/20/09
64967 | ARRK Product Development Group(Wkrs) | San Diego, CA | 01/22/09 | 01/14/09
64968 | The Jim C. Hamer Company(Comp) | Kenova, WV | 01/22/09 | 01/16/09
64969 | The Vollrath Company, LLC(UAW) | Sheboygan, WI | 01/22/09 | 01/21/09
64970 | Boise Cascade, LLC(Wkrs) | White City, OR | 01/22/09 | 01/13/09
64971 | Gregg Industries(Comp) | El Monte, CA | 01/22/09 | 01/15/09
64972 | Risdon International(Comp) | Laconia, NH | 01/23/09 | 01/23/09
64973 | Elcom, Inc.(Comp) | El Paso, TX | 01/23/09 | 01/22/09
64974 | Fredon Development Industries, LLC(Comp) | Newton, NJ | 01/23/09 | 01/23/09
64975 | Shell Sands, Inc.(Wkrs) | Cleveland, OH | 01/23/09 | 01/05/09
64976 | General Building Corporation(Comp) | Addison, IL | 01/23/09 | 01/22/09
64977 | Circuit Check, Inc.(Comp) | Maple Grove, MN | 01/23/09 | 01/22/09
64978 | Narroflex, Inc.(Comp) | Stuart, VA | 01/23/09 | 01/21/09
64979 | Fiberweb(Wkrs) | Simpsonville, SC | 01/23/09 | 01/22/09
64980 | National Wood Products of Maine, Inc.(Comp) | Oxford, ME | 01/23/09 | 01/22/09
64981 | EFTEC N.A., LLC(UAW) | Dayton, OH | 01/23/09 | 01/21/09
64982 | W&H Machine Shop, Inc.(Comp) | St. Marys, PA | 01/23/09 | 01/22/09
64983 | Plum Creek Northwest Lumber, Inc.(Comp) | Pablo, MT | 01/23/09 | 01/22/09

[FR Doc. E9-3029 Filed 2-11-09; 8:45 am]

BILLING CODE 4510-FN-P